OFFICE OF THE UNITED STATES TRADE REPRESENTATIVE

WTO Dispute Settlement Proceeding Regarding Measures Related to Zeroing and Sunset Reviews

AGENCY: Office of the United States Trade Representative.

ACTION: Notice; request for comments.

SUMMARY: The Office of the United States Trade Representative (“USTR”) is providing notice that pursuant to a request of Japan, the Dispute Settlement Body (“DSB”) of the World Trade Organization (“WTO”) has established a compliance panel under the Marrakesh Agreement Establishing the World Trade Organization (“WTO Agreement”) concerning the dispute United States—Measures Relating to Zeroing and Sunset Reviews; Recourse to Article 21.5 of the DSU by Japan. That request may be found at http://www.wto.org contained in a document designated as WT/DS322/27. USTR invites written comments from the public concerning the issues raised in this dispute.

DATES: Although USTR will accept any comments received during the course of the dispute settlement proceeding, comments should be submitted on or before July 15, 2008.

ADDRESSES: Comments should be submitted (i) electronically, to FR0808@ustr.eop.gov, Attn: “Japan Zeroing (21.5)” in the subject line, or (ii) by fax, to Sandy McKinzy at 202-395-3640, with a confirmation copy sent electronically to the e-mail address above.

FOR FURTHER INFORMATION CONTACT: Ronald J. Baumgarten, Jr., Assistant General Counsel, Office of the United States Trade Representative, 600 17th Street, NW., Washington, DC 20508, (202) 395-9583.

SUPPLEMENTARY INFORMATION: USTR is providing notice that the DSB has established, at the request of Japan, a dispute settlement compliance panel pursuant to the WTO Understanding on Rules and Procedures Governing the Settlement of Disputes (“DSU”). Such panel will hold any hearing in Geneva, Switzerland. It is possible that the public will be able to observe the hearing of the panel. If so, then USTR would intend to provide notice on USTR's Web site (under “Opportunities to View Dispute Settlement Hearings” on the Web page http://www.ustr.gov/Trade_Agreements/Monitoring_Enforcement/Dispute_Settlement/WTO/Section_Index.html) of the public hearing and the means by which the public may observe.

Major Issues Raised by Japan

In Japan's request for the establishment of a panel in connection with the dispute United States—Measures Relating to Zeroing and Sunset Reviews; Recourse to Article 21.5 of the DSU by Japan, Japan challenges the following:

• The consistency with DSU Articles 17.14, 21.1, and 21.3 of the continued use of zeroing in transaction-to-transaction comparisons in original investigations, in any comparison methodology in periodic reviews, and in any comparison methodology in new shipper reviews; Japan also alleges that the failure to eliminate zeroing in these contexts is a breach of Articles 2.4, 2.4.2, 9.3, and 9.5 of the Antidumping Agreement and Articles VI:1 and VI:2 of the GATT 1994;

• The alleged failure to eliminate zeroing in eight periodic reviews, and, since the expiration of the implementation deadline, through the eight periodic reviews at issue and related instructions and notices, the continued imposition, collection, and/or assessment of antidumping duties in excess of the proper margin of dumping; Japan claims that the failure to eliminate zeroing in these periodic reviews is inconsistent with Articles 17.14, 21.1, and 21.3 of the DSU, Articles 2.4 and 9.3 of the Antidumping Agreement, and Article VI:2 of the GATT 1994;

• The consistency of alleged measures taken to comply with the DSB's recommendations and rulings with Articles 2.4, 9.2, and 9.3 of the Antidumping Agreement and Article II:1(a), II:1(b), VI:1, and VI:2 of the GATT 1994;

• The alleged failure by the United States to take any action to bring the sunset review determination of November 4, 1999 regarding the antidumping duty order on Anti-Friction Bearings from Japan, as well as the sunset review determination of the same order of May 4, 2006, into conformity with its WTO obligations; Japan alleges that as a result, the United States acts inconsistently with Articles 17.14, 21.1, and 21.3 of the DSU, and Article 11.3 of the Antidumping Agreement.

Public Comment: Requirements for Submissions

Interested persons are invited to submit written comments concerning the issues raised in this dispute. Persons submitting comments may either send one copy by fax to Sandy McKinzy at (202) 395-3640, or transmit a copy electronically to FR0808@ustr.eop.gov, with “Japan Zeroing (21.5)” in the subject line. For documents sent by fax, USTR requests that the submitter provide a confirmation copy to the electronic mail address listed above.

USTR encourages the submission of documents in Adobe PDF format, as attachments to an electronic mail. Interested persons who make submissions by electronic mail should not provide separate cover letters; information that might appear in a cover letter should be included in the submission itself. Similarly, to the extent possible, any attachments to the submission should be included in the same file as the submission itself, and not as separate files.

A person requesting that information contained in a comment submitted by that person be treated as confidential business information must certify that such information is business confidential and would not customarily be released to the public by the submitter. Confidential business information must be clearly designated as such and the submission must be marked “BUSINESS CONFIDENTIAL” at the top and bottom of the cover page and each succeeding page of the submission.

Information or advice contained in a comment submitted, other than business confidential information, may be determined by USTR to be confidential in accordance with section 135(g)(2) of the Trade Act of 1974 (19 U.S.C. 2155(g)(2)). If the submitting person believes that information or advice may qualify as such, the submitting person—

(1) Must clearly so designate the information or advice;

(2) Must clearly mark the material as “SUBMITTED IN CONFIDENCE”at the top and bottom of each page of the cover page and each succeeding page; and

(3) Is encouraged to provide a non-confidential summary of the information or advice.

Pursuant to section 127(e) of the Uruguay Round Agreements Act (“URAA”) (19 U.S.C. 3537(e)), USTR will maintain a file on this dispute settlement proceeding, accessible to the public, in the USTR Reading Room, which is located at 1724 F Street, NW., Washington, DC 20508. The public file will include non-confidential comments received by USTR from the public with respect to the dispute; for the dispute settlement compliance panel or in the event of an appeal from such a panel, the U.S. submissions; the submissions, or non-confidential summaries of submissions, received from other participants in the dispute; the report of the panel; and, if applicable, the report of the Appellate Body. An appointment to review the public file (Docket No. WT/DS-322) may be made by calling the USTR Reading Room at (202) 395-6186. The USTR Reading Room is open to the public from 9:30 a.m. to noon and 1 p.m. to 4 p.m., Monday through Friday.

Daniel E. Brinza,
Assistant United States Trade Representative for Monitoring and Enforcement.

[FR Doc. E8-13518 Filed 6-16-08; 8:45 am]

BILLING CODE 3190-W8-P